DEPARTMENT OF AGRICULTURE

Forest Service

36 CFR Chapter II

Report Prepared Pursuant to Executive Order 13783—Promoting Energy Independence and Economic Growth

AGENCY: Forest Service, USDA.

ACTION: Notification of final report.

SUMMARY: The U.S. Department of Agriculture's Forest Service (Forest Service) has prepared its final report pursuant to Section 2 of Executive Order 13783—Promoting Energy Independence and Economic Growth (E.O. 13783). Section 2 of E.O. 13783 mandates an immediate review of all Federal agency actions that potentially unduly burden the safe, efficient development of domestic energy resources, and requires heads of Federal agencies to review all existing regulations, orders, guidance documents, policies, and any other similar agency actions (collectively, agency actions) that potentially unduly burden the development or use of domestically produced energy resources, with particular attention to oil, natural gas, coal, and nuclear energy resources. E.O. 13783 also requires Federal agencies to make recommendations that could alleviate or eliminate aspects of their actions that unduly burden domestic energy production.

DATES: November 1, 2017.

ADDRESSES: The report is available on the Forest Service's Web site at https://www.fs.fed.us/managing-land/energy.

FOR FURTHER INFORMATION CONTACT: Sherri Thompson at 303-275-5147 or by mail at 1617 Cole Boulevard, Building 7, Lakewood, CO 80401.

Individuals who use telecommunication devices for the deaf (TDD) may call the Federal Information Relay Service (FIRS) at 1-800-877-8339 between 8 a.m. and 8 p.m., Eastern Standard Time, Monday through Friday.

SUPPLEMENTARY INFORMATION: The purpose of E.O. 13783 is to eliminate unnecessary Federal procedures that obstruct, delay, curtail, or otherwise impose significant costs on the siting, permitting, production, utilization, transmission, or delivery of energy resources. On National Forest System lands, the USDA and the Forest Service play an important role in assuring that activities associated with Federal and private energy mineral resources, renewable energy projects, and energy-related transmission and distribution facilities are conducted in a manner that minimizes adverse effects on Federal surface resources while avoiding regulatory burdens that unnecessarily encumber energy production, constrain economic growth, and prevent job creation.

Pursuant to Section 2 of E.O. 13783, the Forest Service reviewed more than 70 agency actions, including regulations, policies, guidance, orders, agreements with partner agencies, and programmatic analyses at the Washington Office and field levels of the agency to assess whether they unduly burden clean and safe domestic energy development. As a result of that review, the Forest Service recommends revising or rescinding parts of 15 agency actions to alleviate or eliminate undue burdens on the prudent development or use of domestic energy sources. Consistent with E.O. 13783, it is in the national interest to promote the clean and safe development of America's vast energy resources. Adopting these recommendations would result in the revision of parts of three regulations, five policies, four agreements with other agencies, one programmatic analysis, and one order and rescinding part of one policy. The Forest Service's recommendations are principally associated with streamlining agency procedures or clarifying agency policy to facilitate more efficient processing of energy proposals by the agency alone or in coordination with its partners.

Dated: October 25, 2017.
Jeanne M. Higgins,
Acting Associate Deputy Chief, National Forest System.

[FR Doc. 2017-23805 Filed 10-31-17; 8:45 am]

BILLING CODE 3411-15-P